DEPARTMENT OF ENERGY

Federal Energy Regulatory Commission

Combined Notice of Filings #2

November 5, 2009.

Take notice that the Commission received the following electric corporate filings:

Docket Numbers: EC10-14-000.

Applicants: Chandler Wind Partners, LLC, Foote Creek II, LLC, Foote Creek IV, LLC, Ridge Crest Wind Partners, LLC, Oak Creek Wind Power, LLC, Terra-Gen VG Wind, LLC, Terra-Gen 251 Wind, LLC, Foote Creek III, LLC.

Description: Application for Authorization for Disposition of Jurisdictional Facilities and Request for Expedited Action of Chandler Wind Partners, LLC, et al.

Filed Date: 11/03/2009.

Accession Number: 20091103-5097.

Comment Date: 5 p.m. Eastern Time on Tuesday, November 24, 2009.

Docket Numbers: EC10-16-000.

Applicants: Milford Wind Corridor Phase I, LLC, Milford Wind Corridor Phase II, LLC, Milford Wind Corridor Phase III, LLC, Milford Wind Corridor Phase IV, LLC, Milford Wind Corridor Phase V, LLC, Milford Gen Lead, LLC.

Description: Application of Milford Wind Corridor LLC for Authorization under Section 203 of the Federal Power Act and Request for Waivers, Confidential Treatment and Expedited Consideration.

Filed Date: 10/30/2009.

Accession Number: 20091030-5179.

Comment Date: 5 p.m. Eastern Time on Friday, November 20, 2009.

Take notice that the Commission received the following exempt wholesale generator filings:

Docket Numbers: EG10-6-000.

Applicants: Crystal Lake Wind III, LLC.

Description: Notice of Self-Certification of Exempt Wholesale Generator Status of Crystal Lake Wind III, LLC.

Filed Date: 11/05/2009.

Accession Number: 20091105-5067.

Comment Date: 5 p.m. Eastern Time on Friday, November 27, 2009.

Docket Numbers: EG10-7-000.

Applicants: Garden Wind, LLC.

Description: Notice of Self-Certification of Exempt Wholesale Generator Status of Garden Wind, LLC.

Filed Date: 11/05/2009.

Accession Number: 20091105-5068.

Comment Date: 5 p.m. Eastern Time on Friday, November 27, 2009.

Take notice that the Commission received the following electric rate filings:

Docket Numbers: ER99-3502-010.

Applicants: Berkshire Power Company, LLC.

Description: Berkshire Power Company, LLC Order No. 697-C Quarterly Filing of EIF Entities.

Filed Date: 11/02/2009.

Accession Number: 20091102-5175.

Comment Date: 5 p.m. Eastern Time on Monday, November 23, 2009.

Docket Numbers: ER01-1527-014; ER01-1529-014.

Applicants: Nevada Power Company; Sierra Pacific Power Company.

Description: Nevada Power Company et al. notifies the Commission of a nonmaterial change in status resulting from the facts described in the application.

Filed Date: 11/02/2009.

Accession Number: 20091103-0170.

Comment Date: 5 p.m. Eastern Time on Monday, November 23, 2009.

Docket Numbers: ER01-2544-007; ER01-2543-007; ER01-2545-007; ER01-2546-007; ER01-2547-007; ER03-1182-008; ER06-1331-005;

Applicants: CalPeak Power LLC, Commonwealth Chesapeake Company, LLC, Tyr Energy, LLC, CalPeak Power—Panoche LLC, CalPeak Power—Vaca Dixon LLC, CalPeak Power—El Cajon LLC, CalPeak Power—Enterprise LLC, CalPeak Power—Border LLC, Fox Energy Company, LLC

Description: Notice of Non-Material Change in Status of Sites for New Generation Capacity Development of CalPeak Power LLC, et al.

Filed Date: 10/30/2009

Accession Number: 20091030-5092.

Comment Date: 5 p.m. Eastern Time on Friday, November 20, 2009.

Docket Numbers: ER01-3103-020.

Applicants: Astoria Energy LLC, Astoria Energy II LLC.

Description: Astoria Energy I & II Submits 697-C Report.

Filed Date: 11/02/2009.

Accession Number: 20091102-5154.

Comment Date: 5 p.m. Eastern Time on Monday, November 23, 2009.

Docket Numbers: ER02-25-010; ER08-1236-004; ER00-3751-008.

Applicants: Troy Energy, LLC; IPA Trading, LLC; ANP FUNDING I, LLC.

Description: Amendment to Updated Market Power Analysis of Troy Energy, LLC, et al.

Filed Date: 11/03/2009.

Accession Number: 20091103-5107.

Comment Date: 5 p.m. Eastern Time on Tuesday, November 24, 2009.

Docket Numbers: ER03-1284-007; ER08-1225-004; ER05-1202-7.

Applicants: Blue Canyon Windpower II LLC, Cloud County Wind Farm, LLC, Blue Canyon Windpower LLC.

Description: Supplement to Notice of Non-Material Change in Status of Blue Canyon Windpower LLC, et al.

Filed Date: 11/03/2009.

Accession Number: 20091103-5106.

Comment Date: 5 p.m. Eastern Time on Tuesday, November 24, 2009.

Docket Numbers: ER05-717-013; ER05-721-013; ER06-1334-010; ER06-230-010; ER07-277-009; ER07-810-008; ER08-1172-007; ER08-237-008; ER09-1339-003; ER09-1341-003; ER09-1342-003; ER09-429-004; ER09-430-004; ER09-946-003; ER99-2341-016; ER09-1340-003; ER04-374-014;

Applicants: Spring Canyon Energy LLC, Judith Gap Energy LLC, Invenergy TN LLC, Wolverine Creek Energy LLC, Grays Harbor Energy LLC, Forward Energy LLC, Grand Ridge Energy LLC, Willow Creek Energy LLC, Sheldon Energy LLC, Hardee Power Partners Limited, Spindle Hill Energy LLC; Invergy Cannon Falls LLC; Beech Ridge Energy, LLC; Grand Ridge Energy, II LLC; Grand Ridge Energy, III LLC; Grand Ridge Energy IV LLC; Grand Ridge Energy Energy V LLC.

Description: Spring Canyon Energy, LLC's et al. submits for filing with the Commission this notice of change of facts.

Filed Date: 10/30/2009.

Accession Number: 20091104-0004.

Comment Date: 5 p.m. Eastern Time on Friday, November 20, 2009.

Docket Numbers: ER06-560-005.

Applicants: Credit Suisse Energy LLC.

Description: Notice of Non-Material Change in Status of Credit Suisse Energy LLC.

Filed Date: 11/02/2009.

Accession Number: 20091102-5142.

Comment Date: 5 p.m. Eastern Time on Monday, November 23, 2009.

Docket Numbers: ER06-1407-005; ER06-1408-005; ER06-1409-005; ER06-1413-005; ER08-577-006; ER08-578-006; ER08-579-007; ER08-1443-003.

Applicants: Noble Wethersfield Windpark, LLC, Noble Chateaugay Windpark, LLC, Noble Bellmont Windpark, LLC, Noble Ellenburg Windpark, LLC, Noble Bliss Windpark, LLC, Noble Clinton Windpark I, LLC, Noble Altona Windpark, LLC, Noble Great Plains Windpark, LLC.

Description: Quarterly Report for the third quarter of 2009 under Order 697 of Noble Bliss Windpark, LLC, et al.

Filed Date: 10/30/2009.

Accession Number: 20091030-5181

Comment Date: 5 p.m. Eastern Time on Friday, November 20, 2009.

Docket Numbers: ER07-758-018.

Applicants: Inland Empire Energy Center, LLC.

Description: Inland Empire Energy Center, LLC Notice of Non-Material Change in Status.

Filed Date: 10/30/2009.

Accession Number: 20091030-5174.

Comment Date: 5 p.m. Eastern Time on Friday, November 20, 2009.

Docket Numbers: ER08-401-002; ER08-1385-001; ER09-1429-002; ER99-2287-005.

Applicants: Black Hills Power, Inc., Black Hills/Colorado Electric Utility Co., Cheyenne Light Fuel & Power Company, Black Hills Wyoming, LLC.

Description: Report on Sites for New Generation Development.

Filed Date: 10/30/2009.

Accession Number: 20091030-5178.

Comment Date: 5 p.m. Eastern Time on Friday, November 20, 2009.

Docket Numbers: ER08-1317-003.

Applicants: California Independent System Operator Corporation.

Description: Q3 Quarterly Report on Progress in Processing Interconnection Requests of the California Independent System Operator Corporation.

Filed Date: 10/30/2009

Accession Number: 20091030-5185.

Comment Date: 5 p.m. Eastern Time on Friday, November 20, 2009.

Docket Numbers: ER08-1419-004.

Applicants: Southwest Power Pool, Inc.

Description: Southwest Power Pool, Inc submits Second Substitute Original Sheet 300C.03 et al. to FERC Electric Tariff, Fifth Revised Volume 1.

Filed Date: 11/02/2009.

Accession Number: 20091103-0169.

Comment Date: 5 p.m. Eastern Time on Monday, November 23, 2009.

Docket Numbers: ER09-1555-000.

Applicants: Wisconsin Power and Light Company.

Description: Response to Data Request of Alliant Energy Corporate Services, Inc.

Filed Date: 10/30/2009.

Accession Number: 20091030-5055.

Comment Date: 5 p.m. Eastern Time on Tuesday, November 10, 2009.

Docket Numbers: ER09-1729-000

Applicants: Conectiv Mid Merit, LLC.

Description: Conectiv Mid Merit, LLC submits Amendment to its Application.

Filed Date: 11/04/2009.

Accession Number: 20091105-0186.

Comment Date: 5 p.m. Eastern Time on Wednesday, November 25, 2009.

Docket Numbers: ER10-117-000.

Applicants: North American Power and Gas, LLC.

Description: North American Power and Gas, LLC submits petition for acceptance of initial tariff, FERC Electric Tariff, Original Volume 1, waivers and blanket authority.

Filed Date: 11/02/2009.

Accession Number: 20091104-0001.

Comment Date: 5 p.m. Eastern Time on Monday, November 23, 2009.

Docket Numbers: ER10-47-001

Applicants: Geodyne Energy, L.L.C.

Description: Geodyne Energy, LLC submits amended filing of the Petition for Acceptance of Rate Schedule, Waivers and Blanket Authority submitted 10/15/09.

Filed Date: 11/02/2009.

Accession Number: 20091103-0167

Comment Date: 5 p.m. Eastern Time on Monday, November 23, 2009.

Docket Numbers: ER10-159-000.

Applicants: Public Service Electric and Gas Company.

Description: Public Service Electric and Gas Co submits a request for incentive rate treatment for the Branchburg-Roseland-Hudson 500kv Transmission Project.

Filed Date: 10/30/2009.

Accession Number: 20091102-0187.

Comment Date: 5 p.m. Eastern Time on Friday, November 20, 2009.

Docket Numbers: ER10-162-000.

Applicants: Pacific Gas and Electric Company.

Description: Pacific Gas and Electric Company submits for acceptance Notice of Cancellation of Rate Schedule FERC No 136, Interconnection Agreement etc.

Filed Date: 10/30/2009.

Accession Number: 20091103-0059

Comment Date: 5 p.m. Eastern Time on Friday, November 20, 2009.

Docket Numbers: ER10-174-000.

Applicants: Southern Company Services, Inc.

Description: Southern Companies submits annual filing of revised accruals for post-retirement benefits other than pensions.

Filed Date: 10/30/2009.

Accession Number: 20091102-0120.

Comment Date: 5 p.m. Eastern Time on Friday, November 20, 2009.

Docket Numbers: ER10-182-000.

Applicants: PJM Interconnection, L.L.C.

Description: PJM Interconnection, LLC submits Sixth Revised Sheet No. 37 et al. to FERC Electric Tariff, Sixth Revised Volume 1, to be effective January 1, 2010.

Filed Date: 11/02/2009.

Accession Number: 20091102-0166.

Comment Date: 5 p.m. Eastern Time on Monday, November 23, 2009.

Docket Numbers: ER10-188-000.

Applicants: California Independent System Operator Corporation.

Description: California Independent System Operator Corporation submits filing to extend the current Grid Management Charge until 12/31/10 etc.

Filed Date: 10/30/2009.

Accession Number: 20091103-0041.

Comment Date: 5 p.m. Eastern Time on Friday, November 20, 2009.

Docket Numbers: ER10-189-000.

Applicants: Niagara Mohawk Power Corporation.

Description: National Grid submits interconnection agreement dated 10/20/92 between Niagara Mohawk Power Corporation and Selkirk Cogen Partners, LP.

Filed Date: 10/30/2009.

Accession Number: 20091103-0042.

Comment Date: 5 p.m. Eastern Time on Friday, November 20, 2009.

Docket Numbers: ER10-190-000.

Applicants: Midwest Independent Transmission System Operator. Inc., ALLETE, Inc.

Description: Midwest Independent Transmission System Operator, Inc. submits revised tariff sheets with proposed revisions to Attachment O etc.

Filed Date: 10/30/2009.

Accession Number: 20091103-0043.

Comment Date: 5 p.m. Eastern Time on Friday, November 20, 2009.

Docket Numbers: ER10-192-000.

Applicants: Public Service Company of Colorado.

Description: Public Service Company of Colorado submits changes in base rates applicable to service to the Black Hills/Colorado Electric Utility Company, LP, et al.

Filed Date: 10/30/2009.

Accession Number: 20091104-0137.

Comment Date: 5 p.m. Eastern Time on Friday, November 20, 2009.

Docket Numbers: ER10-193-000.

Applicants: Public Service Company of New Hampshire.

Description: Northeast Utilities Service Company submits Second Revised Rate Schedule FERC No 104.

Filed Date: 11/02/2009.

Accession Number: 20091103-010.1

Comment Date: 5 p.m. Eastern Time on Monday, November 23, 2009.

Docket Numbers: ER10-195-000.

Applicants: Southwest Power Pool, Inc.

Description: Southwest Power Pool, Inc. submits Network Integration Transmission Service Agreement with Public Service Company of Oklahoma etc.

Filed Date: 11/02/2009.

Accession Number: 20091103-0102.

Comment Date: 5 p.m. Eastern Time on Monday, November 23, 2009.

Docket Numbers: ER10-196-000.

Applicants: Southwest Power Pool, Inc.

Description: Southwest Power Pool, Inc. submits Network Integration Transmission Service Agreement.

Filed Date: 11/02/2009.

Accession Number: 20091103-0103.

Comment Date: 5 p.m. Eastern Time on Monday, November 23, 2009.

Docket Numbers: ER10-197-000.

Applicants: Southwest Power Pool, Inc.

Description: Southwest Power Pool, Inc. submits Network Integration Transmission Service Agreement.

Filed Date: 11/02/2009.

Accession Number: 20091103-0104.

Comment Date: 5 p.m. Eastern Time on Monday, November 23, 2009.

Docket Numbers: ER10-198-000.

Applicants: Indiana Michigan Power Company.

Description: Appalachian Power Company et al. submits Notice of Cancellation to terminate the Transmission and Unit Power Supply Agreement with Carolina Power & Light Company.

Filed Date: 11/02/2009.

Accession Number: 20091103-0105.

Comment Date: 5 p.m. Eastern Time on Monday, November 23, 2009.

Docket Numbers: ER10-199-000.

Applicants: Central Maine Power Company.

Description: Central Maine Power Company submits an unexecuted service agreement for Local Network Transmission Service with Kennebunk Light & Power District.

Filed Date: 11/02/2009.

Accession Number: 20091103-0106.

Comment Date: 5 p.m. Eastern Time on Monday, November 23, 2009.

Docket Numbers: ER10-200-000.

Applicants: Central Maine Power Company.

Description: Central Maine Power Company submit petitions to terminate rate schedule FERC No. 113.

Filed Date: 11/02/2009.

Accession Number: 20091103-0107.

Comment Date: 5 p.m. Eastern Time on Monday, November 23, 2009.

Docket Numbers: ER10-201-000.

Applicants: Xcel Energy Services Inc.

Description: Southwestern Public Service Company submits proposed Notice of Cancellation of the Network Integration Transmission Service Agreement et al.

Filed Date: 11/02/2009.

Accession Number: 20091103-0108.

Comment Date: 5 p.m. Eastern Time on Monday, November 23, 2009.

Docket Numbers: ER10-202-000.

Applicants: Pacific Gas and Electric Company.

Description: Pacific Gas and Electric Company submits a service agreement wholesale distribution service and interconnection agreement with Shelter Cove Resort Improvement District No. 1 etc.

Filed Date: 11/02/2009.

Accession Number: 20091103-0060.

Comment Date: 5 p.m. Eastern Time on Monday, November 23, 2009.

Docket Numbers: ER10-206-000.

Applicants: Mississippi Power Company.

Description: Mississippi Power Company submits Amendment 13 to FERC Electric Rate Schedule No. 108.

Filed Date: 11/03/2009.

Accession Number: 20091104-0005.

Comment Date: 5 p.m. Eastern Time on Tuesday, November 24, 2009.

Docket Numbers: ER10-207-000; ER10-208-000.

Applicants: Southwestern Electric Power Company.

Description: American Electric Power submits the Amended and Restated Power Supply Agreement between SWEPCO and Northeast Texas Electric Cooperative, Inc. dated 11/2/09 et al.

Filed Date: 11/03/2009.

Accession Number: 20091104-0007.

Comment Date: 5 p.m. Eastern Time on Tuesday, November 24, 2009.

Docket Numbers: ER10-211-000.

Applicants: Pacific Gas and Electric Company.

Description: Pacific Gas and Electric Company Submits Proposed Grid Management Charge for 2010.

Filed Date: 10/30/2009.

Accession Number: 20091030-5188.

Comment Date: 5 p.m. Eastern Time on Friday, November 20, 2009.

Docket Numbers: ER10-215-000.

Applicants: Southwest Power Pool, Inc.

Description: Southwest Power Pool, Inc. submits an executed Transmission Interconnection Agreement with West Texas Municipal Power Agency.

Filed Date: 11/04/2009.

Accession Number: 20091105-0163.

Comment Date: 5 p.m. Eastern Time on Wednesday, November 25, 2009.

Docket Numbers: ER10-216-000.

Applicants: Entergy Services, Inc.

Description: Entergy Louisiana, LLC et al. submits Second Revised Service Agreement 453, which is a revised and amended interconnection and operating agreement.

Filed Date: 11/04/2009.

Accession Number: 20091105-0162.

Comment Date: 5 p.m. Eastern Time on Wednesday, November 25, 2009.

Take notice that the Commission received the following open access transmission tariff filings:

Docket Numbers: OA08-61-002.

Applicants: Southwest Power Pool, Inc.

Description: Southwest Power Pool, Inc. submits revisions to Attachment O of its Open Access Transmission Tariff pursuant to Order 890 and 890-A.

Filed Date: 11/02/2009.

Accession Number: 20091103-0172.

Comment Date: 5 p.m. Eastern Time on Monday, November 23, 2009.

Docket Numbers: OA10-2-000.

Applicants: Midwest Independent Transmission System Operator, Inc.

Description: Midwest Independent Transmission System Operator, Inc submits Notification Filing pursuant to Sections 19.9 and 32.5 of its Energy Markets and Open Access Transmission Tariff pursuant to Order Nos. 890, 890-A, and 890-B.

Filed Date: 10/30/2009.

Accession Number: 20091104-0171.

Comment Date: 5 p.m. Eastern Time on Friday, November 20, 2009.

Take notice that the Commission received the following PURPA 210(m)(3) filings:

Docket Numbers: QM10-2-001.

Applicants: The Detroit Edison Company.

Description: Supplement to the Application for Authorization to Terminate the Obligation of The Detroit Edison Company to Purchase Power From Qualified Facilities Over Twenty Megawatts on a Service Territory-Wide Basis.

Filed Date: 11/05/2009.

Accession Number: 20091105-5049.

Comment Date: 5 p.m. Eastern Time on Thursday, December 3, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-27481 Filed 11-16-09; 8:45 am]

BILLING CODE 6717-01-P